DEPARTMENT OF STATE

[Public Notice 4115]

Advisory Committee on Labor Diplomacy; Meeting

The Advisory Committee on Labor Diplomacy (ACLD) will hold a meeting from 9 a.m. to 12 noon on September 18, 2002, in room 1406, U.S. Department of State, 2201 C Street, NW., Washington, DC 20520. Paula Dobriansky, Under Secretary of State for Global Affairs, will make welcoming remarks. Lorne Craner, Assistant Secretary of State for Democracy, Human Rights and Labor Affairs will also attend. Committee Chairman Thomas Donahue, former President of the AFL-CIO, will chair the meeting.

The ACLD is comprised of prominent persons with expertise in the area of international labor policy and labor diplomacy. The ACLD advises the Secretary of State and the President on the resources and policies necessary to implement labor diplomacy programs efficiently, effectively and in a manner that ensures U.S. leadership in promoting the objectives and ideals of U.S. labor policies in the 21st century. The ACLD makes recommendations on how to strengthen the Department of State's ability to respond to the many challenges facing the United States and the federal government in international labor matters. These challenges include the protection of worker rights, the elimination of exploitative child labor, and the prevention of abusive working conditions.

The agenda for the September 18 meeting includes: discussion of the interagency process on international labor policy formulation, implementation of the recommendations of the Committee's first report on U.S. labor diplomacy, reactions to the Committee's second report, and options for the Committee's agenda for the coming year.

Members of the public are welcome to attend the meeting as seating capacity allows. As access to the Department of State is controlled, persons wishing to attend the meeting must be pre-cleared by calling or faxing the following information, by opening of business September 17, to Kenneth Audroué at (202) 647-4327 or fax (202) 647-0431 or e-mail audrouekr@state.gov: name; company or organization affiliation (if any); date of birth; and social security number. Pre-cleared persons should use the C Street entrance to the State Department and have a driver's license with photo, a passport, a U.S. Government ID or other valid photo identification.

Members of the public may, if they wish, submit a brief statement to the Committee in writing. Those wishing further information should contact Mr. Audroué at the phone and fax numbers provided above.

Dated: August 28, 2002.
John S. Carpenter,
Acting Assistant Secretary, Bureau of Democracy, Human Rights and Labor, Department of State.

[FR Doc. 02-22384 Filed 8-30-02; 8:45 am]

BILLING CODE 4710-18-P